DEPARTMENT OF LABOR

Employment and Training Administration

[TA-W-70,516]

Lamb Assembly and Test, LLC, Subsidiary of Mag Industrial Automation Systems, Machesney Park, IL; Notice of Negative Determination Regarding Application for Reconsideration

By application dated December 1, 2009, petitioners requested administrative reconsideration of the Department's negative determination regarding eligibility to apply for Trade Adjustment Assistance (TAA), applicable to workers and former workers of the subject firm. The denial notice was signed on October 22, 2009 and was published in the Federal Register on December 11, 2009 (74 FR 65796).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination, based on the finding that imports of automation equipment and machine tools did not contribute to worker separations at the subject facility and there was no shift in production from the subject firm to foreign country during the period under investigation. The “contributed importantly” test is generally demonstrated through a survey of the workers' firm's declining customers. The survey revealed no imports of automation equipment and machine tools by declining customers during the relevant period. The subject firm did not import automation equipment and machine tools nor shift production to a foreign country during the relevant period.

The petitioner stated that workers of the subject firm supplied transmission assembly automation equipment to companies which have been recently certified eligible for TAA. The petitioner provided a list of customers and alleged that the workers of the subject firm should be eligible for TAA as secondary impacted workers under Section 222(c).

For the Department to issue a secondary worker certification under Section 222(c), to workers of a secondary upstream supplier, the subject firm must produce for a TAA-certified firm a component part of the article that was the basis for the customers' certification and the certified firm received certification of eligibility for TAA as a primary impacted firm.

The Department has reviewed the list of companies provided by the petitioners. The alleged customers manufacture aluminum transmissions, cases, parts and automobile engines. The subject firm does not act as an upstream supplier, because automation equipment and machine tools do not form component parts of aluminum transmissions, cases, parts and automobile engines. Furthermore, the customers to which the subject firm allegedly supplied articles were not certified as primary firms but were certified for TAA on the basis of a secondary impact. Thus the subject firm workers are not eligible under secondary impact.

The petitioner also stated that workers of Lamb Technicon, a division of Unova, Warren, Michigan and Lake Orion, Michigan were previously certified eligible for TAA. The petitioner appears to allege that because the sister companies of the subject firm were certified eligible for TAA, the workers of the subject firm should be also granted a TAA certification.

The workers of the above mentioned companies were certified eligible for TAA under petition numbers TA-W-40,267 and TA-W-40,267A in July 2002.

When assessing eligibility for TAA, the Department exclusively considers events during the relevant period (from one year prior to the date of the petition). Therefore, events occurring in 2002 are outside of the relevant period and are not considered in this investigation.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 7th day of January 2010.
Elliott S. Kushner,
Certifying Officer, Division of Trade Adjustment Assistance.

[FR Doc. 2010-898 Filed 1-19-10; 8:45 am]

BILLING CODE 4510-FN-P